DEPARTMENT OF STATE

[Public Notice: 10753]

Notice of Public Meeting

SUMMARY: The Advisory Panel to the U.S. Section of the North Pacific Anadromous Fish Commission will meet on May 10, 2019.

DATES: The meeting will take place via teleconference on May 10, 2019 from 1 p.m. to 2 p.m. Eastern time.

ADDRESSES: The teleconference call-in number is toll-free 877-336-1831, passcode 6472335, and will have a limited number of lines for members of the public to access from anywhere in the United States. Callers will hear instructions for using the passcode and joining the call after dialing the toll-free number noted. Members of the public wishing to participate in the teleconference must contact the OES officer in charge as noted in the FOR MORE INFORMATION section below no later than close of business on Wednesday, May 8, 2019.

FOR FURTHER INFORMATION CONTACT: Staci MacCorkle, Office of Marine Conservation. Telephone (202) 647-3010, email address MacCorkleSK@state.gov.

SUPPLEMENTARY INFORMATION: In accordance with the requirements of the Federal Advisory Committee Act, notice is given that the Advisory Panel to the U.S. Section of the North Pacific Anadromous Fish Commission (NPAFC) will meet on the date and time noted above. The Panel consists of members from the states of Alaska and Washington who represent the broad range of fishing and conservation interests in anadromous and ecologically related species in the North Pacific. Certain members also represent relevant state and regional authorities. The Panel was established in 1992 to advise the U.S. Section of the NPAFC on research needs and priorities for anadromous species, such as salmon, and ecologically related species occurring in the high seas of the North Pacific Ocean. The upcoming Panel meeting will focus on a review of the agenda for the 2019 annual meeting of the NPAFC (May 13-17, 2019; Portland, Oregon). Background material is available from the point of contact noted above and by visiting www.npafc.org.

This announcement might appear in the Federal Register less than 15 days prior to the meeting. The Department of State finds that there is an exceptional circumstance in that this advisory committee meeting must be held on May 10 in order to prepare for the NPAFC annual meeting, to be convened on May 13, 2019.

David F. Hogan Jr,
Acting Director, Office of Marine Conservation Department of State.

[FR Doc. 2019-08615 Filed 4-26-19; 8:45 am]

BILLING CODE 4710-08-P